DEPARTMENT OF EDUCATION

Notice of Submission for OMB Review

AGENCY: Department of Education.

ACTION: Comment Request.

SUMMARY: The Director, Information Collection Clearance Division, Regulatory Information Management Services, Office of Management invites comments on the submission for OMB review as required by the Paperwork Reduction Act of 1995 (Pub. L. 104-13).

DATES: Interested persons are invited to submit comments on or before November 18, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: To ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: October 13, 2010.
Darrin A. King,
Director, Information Collection Clearance Division, Regulatory Information Management Services, Office of Management.

Institute of Education Sciences

Type of Review: Reinstatement.

Title of Collection: Schools and Staffing Survey (SASS 2011/12) Preliminary Field Activities 2010/11.

OMB Control Number: 1850-0598.

Agency Form Number(s): N/A.

Frequency of Responses: One time.

Affected Public: Businesses or other for-profit; Not-for-profit institutions; State, Local, or Tribal Government, State Educational Agencies or Local Educational Agencies.

Total Estimated Number of Annual Responses: 18,503.

Total Estimated Annual Burden Hours: 886.

Abstract: The Schools and Staffing Survey (SASS) is an in-depth, nationally representative survey of first through twelfth grade public and private school teachers, principals, schools, library media centers, and school districts. For public school districts, principals, schools, teachers and school libraries, the survey estimates are state-representative. For private school principals, schools, and teachers, the survey estimates are representative of private school types. There are two additional components within SASS's 4-year data collection cycle: The Teacher Follow-up Survey and the Principal Follow-up Survey, which are conducted a year after the SASS main collection. SASS respondents include public and private school principals, teachers, and school and school district staff. Topics covered include characteristics of teachers, principals, schools, school libraries, teacher training opportunities, retention, retirement, hiring, and shortages. This submission for SASS 2011/12 requests OMB approval for preliminary field activities to take place prior to data collection in the fall of 2011, including (a) submitting SASS research applications to special districts that require prior research approval before their schools and a coordinator can be recruited for the study; (b) conducting a calling operation to verify whether a subset of districts are one-school districts and will require receiving a combined school- and district-level questionnaire; (c) contacting all of the remaining districts, asking whether they are willing to provide a Teacher Listing Form at a later time and to request email addresses for sampled school principals; and (d) mailing of a pre-contact letter to sample schools to verify the mailing address of the school and to notify the school about the upcoming data collection.

Requests for copies of the information collection submission for OMB review may be accessed from the RegInfo.gov Web site at http://www.reginfo.gov/public/do/PRAMain or from the Department's Web site at http://edicsweb.ed.gov, by selecting the “Browse Pending Collections” link and by clicking on link number 4376. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2010-26290 Filed 10-18-10; 8:45 am]

BILLING CODE 4000-01-P